DEPARTMENT OF TRANSPORTATION

Federal Railroad Administration

[Docket Number FRA-2013-0085]

Petition for Waiver of Compliance

In accordance with Part 211 of Title 49 Code of Federal Regulations (CFR), this document provides the public notice that by a document dated June 12, 2013, the Commuter Rail Division of the Regional Transportation Authority (Metra) and its operating company, the Northeast Illinois Regional Commuter Railroad Corporation, jointly with its contract carriers, Union Pacific Railroad (UP) and BNSF Railway (BNSF), have petitioned the Federal Railroad Administration (FRA) for a waiver of compliance from certain provisions of the Federal railroad safety regulations contained at 49 CFR Part 236, Rules, Standards, and Instructions Governing the Installation, Inspection, Maintenance, and Repair of Signal and Train Control Systems, Devices, and Appliances. FRA assigned the petition Docket Number FRA-2013-0085.

Metra seeks a waiver from the requirements of 49 CFR 236.566, Locomotive of each train operating in train stop, train control, or cab signal territory; equipped. Specifically, Metra requests that the application of § 236.566 allow trains with failures of automatic train stop (ATS), automatic train control (ATC), or automatic cab signal (ACS) on passenger equipment at outlying facilities to proceed into ATS-, ATC-, or ACS-equipped territory and operate to their respective designated repair points under the same provisions allowed for in § 236.567, Restrictions imposed when device fails and/or is cut out en route. This will require § 236.829, Terminal, initial, to be defined in a manner that allows the initial terminal to be the designated “repair point” as defined in § 238.5, Definitions: “A location designated by a railroad where repairs of the type necessary occur on a regular basis. A repair point has, or should have, the facilities, tools, and personnel qualified to make the necessary repairs. A repair point need not be staffed continuously.”

This waiver petition applies to five Metra lines where ATS, ATC, or ACS is in effect. Those lines are Metra's Rock Island Line (ACS), UP's North and Northwest Lines (ATS), UP's West Line (ATC), and BNSF's Aurora Line (ACS). The Metra lines described in this waiver petition operate across three Metra districts. Each of these districts has a single, designated repair point, located near a downtown terminal (LaSalle Street, Ogilvie Transportation Center, and Chicago Union Station). The outlying facilities (Joliet, Blue Island, Elburn, Harvard, McHenry, Crystal Lake, Barrington, Waukegan, Kenosha, and Aurora) are currently used for overnight storage in preparation of morning service. These outlying facilities are intended for minimal maintenance and are not designed to handle major repairs. As a result, any failures of train stop, train control, or cab signal must be corrected at the designated repair points, not the outlying facilities. Typically, when failures occur, the equipment must be moved in nonrevenue service to the designated repair point in order to be repaired. However, this only applies to those repairs that cannot be readily performed at outlying facilities. When possible, minor repairs are made at outlying facilities and this will continue to remain true if the waiver is granted.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 18, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-24135 Filed 10-2-13; 8:45 am]

BILLING CODE 4910-06-P